DEPARTMENT OF LABOR

Notice of Determination Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of April, 2001.

In order for an affirmative determination to be made and a certification of eligibility to apply for worker adjustment assistance to be issued, each of the group eligibility requirements of Section 222 of the Act must be met.

(1) That a significant number or proportion of the workers in the workers' firm or an appropriate subdivision thereof, have become totally or partially separated,

(2) That sales or production, or both, of the firm of subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,834; Reptron Manufacturing Service, Gaylord, MI

TA-W-38,844; Discwax Corp., Stanley, NC

TA-W-39,069; Rosboro Lumber Co., Mill B, Springfield, OR

TA-W-38,684; Ashley Leigh Enterprises, Inc., Hillsville, VA

TA-W-38,879; Hastings Manufacturing Co., Hastings, MI

TA-W-38,908; Electronic Circuits and Design Co., Sebring, OH

TA-W-38,796; Electronic Corp., Edingburg, TX

In the following cases, the investigation revealed that the criteria for eligibility have not been met for the reasons specified.

Increases imports did not contribute importantly to worker separation at the firm

TA-W-38,687; Outboard Maring Corp. (OMC), Lebanon, MO

TA-W-38,574; Outboard Marine Corp., Lowe Aluminum Boats Div., Syracuse, IN

TA-W-39,051; Pleasant River Lumber Co., Dover Foxcroft, ME

TA-W-38,797; Lehigh Coal and Navigation Co., Tomaqua, PA

TA-W-38,750; Porex Technologies, College Point, NY

The workers firm does not produce an article as required for certification under Section 222 of the Trade Act of 1974.

TA-W-39,141; Textile Sales & Repair, Inc., Gastonia, NC

TA-W-38,849; BI-Comp, Inc., York, PA

TA-W-39,138; Small Woodland Services, Inc., Eagle Point, OR

TA-W-39,035; Precision Twist Drill Co., Sandvik Div., Crystal Lake, IL

The investigation revealed that criteria (2) has not been met. Sales or production did not decline during the relevant period as required for certification.

TA-W-38,821; Donohue Industries, A subsidiary of Abitibi Consolidated, Sheldon Mill, Sheldon, TX

Affirmative Determinations for Worker Adjustment Assistance

The following certifications have been issued; the date following the company name and location of each determination references the impact date for all workers of such determination.

TA-W-38,811; Universal Furniture Limited, Morristown, TN: March 10, 2000.

TA-W-38,945; Avaya, Inc., Formerly Known as Lucent Technologies, Shreveport, LA: March 15, 2000.

TA-W-39,038; Woodbury Apparel Group, Woodbury, TN: March 29, 200.

TA-W-38,761; Snuffy's Pet Products, Inc., McConnellsburg, PA: February 12, 2000.

TA-W-38,759; GST Steel Co., Kansas City, MO: February 12, 2000.

TA-W-38,572; Outboard Maine Corp. (OMC), Calhoun, GA: January 4, 2000.

TA-W-38,564 & A, B; Outboard Maine Corp.

TA-W-38,606; Outboard Marine Corp. (OMC), Andrews, NC, Burnsville, NC and Spruce Pine, NC: January 5, 2000.

TA-W-38,606; Outboard Marine Corp. (OMC), Beloit, WI: January 10, 2000.

TA-W-38,772; Hedstrom Corp., Alma, GA: March 5, 2000.

TA-W-38,838; Centec Roll Corp., Div. of Whemco Corp., Bethlehem, PA: February 22, 2000.

TA-W-39,003; Cajun Bag and Supply Corp., Rayne, LA: March 23, 2000.

TA-W-39,063; Grove U.S. LLC, Shady Grove, PA: March 28, 2000.

TA-W-38,565; Outboard Marine Corp. (OMC), Waukegan, IL: January 5, 2000.

TA-W-38,685; Hendrickson-Spring, Chicago, Chicago, IL: January 31, 2000.

TA-W-38,985 & A, B & C; Dunbrooke Industries, Inc., Orange City, IA, Hawarden, IA, Marcus, IA and Rock Rapids, IA: March 23, 2000.

TA-W-38,976; Cummins, Inc., Cummins Power Generation, St. Peter, MN: March 20, 2000.

TA-W-38,688; Cooper Tools/Nicholson Saw, Greenville, MS: February 5, 2000.

TA-W-38,006; American Steel Foundries, ASK-Keystone, Inc., East Chicago, IN: March 22, 2000.

TA-W-38,771; Elkins Hardwood Dimension, Elkins, West Virginia: February 9, 2000.

TA-W-38,977; The Doe Run Co., Smelter Division, Herculaneum, MO: March 16, 2000.

TA-W-38,749; Guilford Mills, Inc., Herkimer, NY: February 20, 2001.

TA-W-38,897; J.E. Morgan Knitting Mills, Inc., Tamaqua, PA: March 7, 2000.

TA-W-38,672; TECO Westinghouse Motor Co., Round Rock, TX: January 30, 2000.

TA-W-38,858; The Goodyear Tire and Rubber Co., Cartersville, GA: June 17, 2000.

TA-W-38,714; Spec Cast, Dyersville, IA: February 3, 2000.

Also, pursuant to Title V of the North American Free Trade Agreement Implementation Act (P.L. 103-182) concerning transitional adjustment assistance hereinafter called (NAFTA-TAA) and in accordance with Section 250(a), Subchapter D, Chapter 2, title II, of the Trade Act as amended, the Department of Labor presents summaries of determinations regarding eligibility to apply for NAFTA-TAA issued during the month of April, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in ports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04651; Discwax Corp., Stanley, NC

NAFTA-TAA-04640; Hastings Manufacturing Co., Hastings, MI

NAFTA-TAA-04542; Weyerhaeuser Co., Mt. Pine Wood Products, Mt. Pine, AR

NAFTA-TAA-04630; Sierra Pacific Industries, Loyalton, CA

NAFTA-TAA-04439 & A, B; Outboard Maine Corp. (OMC), Andrews, NC, Burnsville, NC and Spruce Pine, NC

NAFTA-TAA-04444; Outboard Marine Corp. (OMC), Waukegan, IL

NAFTA-TAA-04440; Outboard Marine Corp. (OMC), Beloit, WI

NAFTA-TAA-04597; Reptron Manufacturing Services, Gaylord, MI

NAFTA-TAA-04734; Pleasant River Lumber Co., Dover Foxcroft, ME

NAFTA-TAA-04699; American Steel Foundries, ASK-Keystone, Inc., East Chicago, IL

The investigation revealed that the criteria for eligibility have not been met for the reasons specified.

The workers firm does not produce an article as required for certification under Section 222 of the Trade Act of 1974.

NAFTA-TAA-04755; Diamler Chrysler AG, Auburn Hills, MI

NAFTA-TAA-04746; Small Woodlands Services, Inc., Eagle Point, OR

NAFTA-TAA-04767; Precision Twist Drill Co., Sandvik Division, Crystal Lake, IL

Affirmative Determinations NAFTA-TAA

NAFTA-TAA-04645; Acme Die Casting, Racine, WI: March 9, 2000.

NAFTA-TAA-04711; Snuffy's Pet Products, Inc., McConnellsburg, PA: March 30, 2000.

NAFTA-TAA-04687; Avaya, Inc., Formerly Known as Lucent Technologies, Shreveport, LA: March 15, 2000.

NAFTA-TAA-04577; GST Steel Co., Kansas City, MO: February 13, 2000.

NAFTA-TAA-04490; Fleischmann's Yeast, Div. of Burns Philip Food, Inc., Gastonia, NC: January 25, 2000.

NAFTA-TAA-04689; Cajun Bag and Supply Corp., Rayne, LA: March 23, 2000.

NAFTA-TAA-04742; Grove U.S. LLC, Shady Grove, PA: March 28, 2000.

NAFTA-TAA-04554; Haggar Clothing Co., Edinburg Manufacturing, Edinburg, TX and Haggar Clothing Co., Weslaco Operations, Weslaco, TX: May 1, 2001.

NAFTA-TAA-04698; Cummins, Inc., Cummins Power Generation, St. Peter, MN: March 29, 2000.

I hereby certify that the aforementioned determinations were issued during the month of April, 2001. Copies of these determinations are available for inspection in Room C-5311, U.S. Department of Labor, 200 Constitution Avenue, NW., Washington, DC 20210 during normal business hours or will be mailed to persons who write to the above address.

Dated: May 7, 2001.
Edward A. Tomchick,
Director, Division of Trade Adjustment Assistance.

[FR Doc. 01-12562 Filed 5-17-01; 8:45 am]

BILLING CODE 4510-30-M